DEPARTMENT OF HEALTH AND HUMAN SERVICES

Food and Drug Administration

Delegation of Authority

Notice is hereby given that I have delegated to the Commissioner of Food and Drugs the authority vested in the Secretary of Health and Human Services under Title III, Section 317R, of the Public Health Service Act (42 U.S.C. 247b-20), titled “Food Safety Grants,” as amended, which is to award grants to States and Indian tribes (as defined in section 4(c) of the Indian Self-Determination, and Education Assistance Act (25 U.S.C. 450b(e))), to expand participation in networks to enhance Federal, State, and local food safety efforts, including meeting the costs of establishing and maintaining the food safety surveillance, technical, and laboratory capacity needed for such participation.

Limitation: this authority must be implemented with prior consultation of the Office of Public Health Emergency Preparedness, Office of the Secretary.

This delegation shall be exercised under the Department's existing policies on delegations of authority and issuance of regulations. This delegation becomes effective upon date of signature. In addition, I have ratified an affirmed any actions taken by the Commissioner or his or her subordinates which involved the exercise of the authorities delegated herein prior to he effective date of the delegation.

Dated: May 18, 2005.
Michael O. Leavitt,
Secretary

[FR Doc. 05-10572 Filed 5-25-05; 8:45 am]

BILLING CODE 4160-01-M